ENVIRONMENTAL PROTECTION AGENCY

[FRL-10002-33-OW]

Notice of Public Teleconferences

AGENCY: Environmental Protection Agency (EPA).

ACTION: Notice of public teleconferences.

SUMMARY: The EPA's Environmental Financial Advisory Board (EFAB) will hold two public teleconferences of the EFAB Stormwater Infrastructure Finance Taskforce, a workgroup of the EFAB. The purpose of the teleconferences is to continue development of a workgroup report on the availability of public and private sources of funding for the construction, rehabilitation, and operation and maintenance of stormwater infrastructure. The EFAB workgroup is developing its report to the EPA pursuant to Section 4101 of the America's Water Infrastructure Act of 2018.

DATES: The public teleconferences will be held on Wednesday, December 4, 2019, from 3:00 p.m. to 5:00 p.m. EST and Wednesday, December 18, 2019, from 12:00 p.m. to 2:00 p.m. EST.

ADDRESSES: The teleconferences will be held by telephone and webinar link. All members of the public who wish to attend the meeting must register in advance, no later than November 27, 2019 for the December 4, 2019 meeting, and no later than December 12, 2019 for the December 18, 2019 meeting, by emailing waterfinancecenter@epa.gov of their interest in attending and to receive the call-in information.

FOR FURTHER INFORMATION CONTACT: Any member of the public who wants further information concerning the teleconference meetings may contact Ellen Tarquinio via telephone at (202) 566-2267 or email to tarquinio.ellen@epa.gov. The EFAB mailing address is: EPA Environmental Financial Advisory Board (4204M), U.S. Environmental Protection Agency, 1200 Pennsylvania Avenue NW, Washington, DC 20460. General information concerning the EFAB can be found on the EPA website at https://www.epa.gov/waterfinancecenter/efab.

SUPPLEMENTARY INFORMATION: Background: The EFAB is an EPA advisory committee chartered under the Federal Advisory Committee Act (FACA), 5 U.S.C., App. 2, to provide advice and recommendations to EPA on innovative approaches to funding environmental programs, projects, and activities. Administrative support for the EFAB is provided by the Water Infrastructure and Resiliency Finance Center (WIRFC) within EPA's Office of Water. Pursuant to FACA and EPA policy, notice is hereby given that the EFAB Stormwater Infrastructure Taskforce will hold two public teleconferences to develop advice and recommendations to the EPA on stormwater funding and financing options throughout the country. The EFAB report will include a description of current approaches to funding stormwater infrastructure in each state, challenges to affordability of the infrastructure based on the type of funding, and gaps for sustainable operations and maintenance for stormwater infrastructure projects.

Availability of Meeting Materials: A meeting agenda and other materials for the meeting will be available on the EFAB website at https://www.epa.gov/waterfinancecenter/efab.

Procedures for Providing Public Input: Public comment for consideration by EPA's federal advisory committees has a different purpose from public comment provided to EPA program offices. Therefore, the process for submitting comments to a federal advisory committee is different from the process used to submit comments to an EPA program office. Federal advisory committees provide independent advice to the EPA. Members of the public can submit comments on matters being considered by the EFAB for consideration by members as they develop their advice and recommendations to the EPA.

Oral Statements: In general, individuals or groups requesting an oral presentation at a public teleconference will be limited to three minutes. Persons interested in providing oral statements at the December 4, 2019 teleconference should contact Ellen Tarquinio in writing (preferably via email) at the contact information noted above by November 27, 2019 to be placed on the list of registered speakers. Persons interested in providing oral statements at the December 18, 2019, teleconference should contact Ellen Tarquinio in writing (preferably via email) at the contact information noted above by December 12, 2019 to be placed on the list of registered speakers.

Written Statements: Written statements for the December 4, 2019 teleconference should be received by WIRFC by November 27, 2019 so that the information can be made available to the EFAB workgroup for its consideration prior to the meeting. Written statements for the December 18, 2019 teleconference should be received by WIRFC by December 12, 2019 so that the information can be made available to the EFAB workgroup for its consideration prior to the meeting Written statements should be sent via email to waterfinancecenter@epa.gov (preferred) or in hard copy with original signature to the EFAB mailing address above. Members of the public should be aware that their personal contact information, if included in any written comments, may be posted to the EFAB website. Copyrighted material will not be posted without explicit permission of the copyright holder.

Accessibility: For information on access or services for individuals with disabilities, or to request accommodations for a disability, please contact Tara Johnson at (202) 564-6186 or johnson.tara@epa.gov at least 10 business days prior to the meeting to allow as much time as possible to process your request.

Dated: November 7, 2019.
Andrew Sawyers,
Director, Office of Wastewater Management, Office of Water.

[FR Doc. 2019-25057 Filed 11-18-19; 8:45 am]

BILLING CODE 6560-50-P